EXPORT-IMPORT BANK

Notice of Open Special Meeting of the Advisory Committee of the Export-Import Bank of the United States (Ex-Im Bank)

SUMMARY: The Advisory Committee was established by Pub. L. 98-181, November 30, 1983, to advise the Export-Import Bank on its programs and to provide comments for inclusion in the reports of the Export-Import Bank of the United States to Congress.

Time and Place: Tuesday, June 3, 2003, at 9:30 a.m. to 1 p.m. The meeting will be held at Ex-Im Bank in Room 1143, 811 Vermont Avenue, NW., Washington, DC 20571.

Agenda: Agenda items include reports and discussion on the Advisory Committee's Sub-Committees on services and agriculture and of the Annual Competitiveness Report.

Public Participation: The meeting will be open to public participation, and the last 10 minutes will be set aside for oral questions or comments. Members of the public may also file written statement(s) before or after the meeting. If any person wishes auxiliary aids (such as a sign language interpreter) or other special accommodations, please contact, prior to May 29, 2003, Teri Stumpf, Room 1203, 811 Vermont Avenue., NW., Washington, DC 20571, Voice: (202) 565-3542 or TDD (202) 565-3377.

FOR FURTHER INFORMATION CONTACT: Teri Stumpf, Room 1203, 811 Vermont Ave., NW., Washington, DC 20571, (202) 565-3502.

Peter Saba,
General Counsel.

[FR Doc. 03-12603 Filed 5-19-03; 8:45 am]

BILLING CODE 6690-01-M